FEDERAL MARITIME COMMISSION

Ocean Transportation Intermediary License; Correction

In the Federal Register Notice published August 8, 2001(63 FR 63054), Notice of Ocean Transportation Intermediary License Applicants, the reference to Bank Shipping of P.R., Inc. is corrected to read: “Rank Shipping of P.R., Inc.”

Dated: August 17, 2001.
Bryant L. VanBrakle,
Secretary.

[FR Doc. 01-21209 Filed 8-21-01; 8:45 am]

BILLING CODE 6730-01-P